DEPARTMENT OF JUSTICE

Antitrust Division

Notice Pursuant to the National Cooperative Research and Production Act of 1993—Controlnet International, Ltd.

Notice is hereby given that, on February 3, 2005, pursuant to Section 6(a) of the National Cooperative Research and Production Act of 1993, 15 U.S.C. 4301 et seq. (“the Act”), ControlNet International, Ltd. (“ControlNet”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Advanced Micro Controls, Inc., Terryville, CT; Balogh T.A.G. Corporation, Brighton, MI; Belden Wire & Cable Company, Richmond, IN; CommScope, Inc. of North Carolina, Claremont, NC; Eaton Electrical, Inc., Westerville, OH; Cyberlogic Technologies, Inc., Clawson, MI; Detector Electronics Corporation, Minneapolis, MN; Escort Memory Systems, Scotts Valley, CA; Festo AG & Co., Esslingen, Germany; Fife Corporation, Oklahoma City, OK; FLS Automation A/S, Valby, Denmark; Fujikura, Ltd., Tokyo, JAPAN; Hilscher Gesellschaft fur Systemautomation GmbH, Hattersheim, Germany; Hirschmann Electronics, Inc., Riverdale, NJ; HMS Fieldbus System AB, Halmstad, Germany; Honeywell International, Inc., Minneapolis, MN; I.D.C. Corporation, Dimondale, MI; IXXAT Automation GmbH, Weingarten, Germany; Kawasaki Robotics (USA), Inc., Wixom, MI; Kendall Electric, Inc., Battle Creek, MI; McNaughton-McKay Electric Company, Madison Heights, MI; Nordson Corporation, Westlake, OH; Numatics, Incorporated, Highland, MI; Phoenix Digital Corporation, Scottsdale, AZ; Prosoft Technology, Inc., Bakersfield, CA; Pyramid Solutions, Inc., Troy, MI; Real Time Automation, LLC, Wauwatosa, WI; Rockwell Automation/Allen-Bradley, Mayfield Heights, OH; Rockwell Automation/Reliance Electric, Cleveland, OH; SMC Corporation of America, Tustin, CA; Unico, Inc., Franksville, WI; and Yaskawa Electric Corporation, Kitakyushu-city, Japan.

The general area of ControlNet's planned activity is to serve as an independent organization for users and vendors of ControlNet products. ControlNet manages the ControlNet Specificiation and supports the worldwide growth of the ControlNet network protocol and related networking technologies by developing test software, providing independent compliance testing, publishing the ControlNet product catalog, and sponsoring training in design and implementation of ControlNet. ControlNet also supports continuing technology enhancement by organizing Special Interest Groups to develop Device Profiles for specific classes of products.

Dorothy B. Fountain,
Deputy Director of Operations, Antitrust Division.

[FR Doc. 05-3923 Filed 2-28-05; 8:45 am]

BILLING CODE 4410-11-M